DEPARTMENT OF HEALTH AND HUMAN SERVICES

National Institutes of Health

National Center for Advancing Translational Sciences; Amended Notice of Meeting

Notice is hereby given of a change in the meeting of the National Center for Advancing Translational Sciences Special Emphasis Panel, from November 6, 2024, 9:30 a.m. to November 7, 2024, 1:00 p.m., National Institutes of Health, 9609 Medical Center Drive, Rockville, MD, 20850 which was published in the Federal Register on August 20, 2024, 89 FR 67456.

The meeting dates and times is being changed due to the availability of members with required expertise; start date & time will change from 11/06/24 9:30 a.m. to 10/29/24 10:00 a.m.; end date & time will change from 11/07/24 1:00 p.m. to 10/30/24 2:00 p.m. The meeting is closed to the public.

Dated: August 28, 2024.
David W. Freeman,
Supervisory Program Analyst, Office of Federal Advisory Committee Policy.

[FR Doc. 2024-19740 Filed 9-3-24; 8:45 am]

BILLING CODE 4140-01-P